DEPARTMENT OF ENERGY

Federal Energy Regulatory Commission

[Project No. 11175-025]

Crown Hydro, LLC; Notice of Teleconference To Discuss Section 106 Consultation for an Application To Amend the Crown Mill Project

a. Project Name and Number: Crown Mill Hydroelectric Project No. 11175.

b. Project licensee: Crown Hydro, LLC.

c. Date and Time of Teleconference: Wednesday, December 6, 2017, from 9:00 a.m. to 11:00 a.m. Central Standard Time.

d. FERC Contact: Jennifer Polardino, (202) 502-6437 or jennifer.polardino@ferc.gov

e. Purpose of Meeting: Commission staff will hold a teleconference to discuss the status of consultation under section 106 of the National Historic Preservation Act for an application to amend the license of the unconstructed Crown Mill Hydroelectric Project. Crown Mill, LLC (licensee) proposes to move the location of the project's powerhouse about 250 feet north to U.S. Army Corps of Engineers (Corps) lands within the campus of the Upper St. Anthony Falls Lock and Dam. Crown Mill, LLC also proposes to construct a new tailrace tunnel instead of connecting to an existing tunnel. The project would be located on the Mississippi River, in the downtown area of the City of Minneapolis, Hennepin County, Minnesota.

f. All local, state, and federal agencies, Indian tribes, and other interested entities are invited to participate in the teleconference. Please call or email Jennifer Polardino at (202) 502-6437 or Jennifer.polardino@ferc.gov by Thursday, November 30, 2017, to RSVP and to receive the teleconference call-in information.

Dated: October 31, 2017.
Nathaniel J. Davis, Sr.,
Deputy Secretary.

[FR Doc. 2017-24142 Filed 11-6-17; 8:45 am]

BILLING CODE 6717-01-P